DEPARTMENT OF DEFENSE

Department of the Army

Interim Change to the Military Freight Traffic Unified Rules Publication (MFTURP) NO. 1

AGENCY: Department of the Army, DoD.

SUMMARY: The Military Surface Deployment and Distribution Command (SDDC) is providing notice that it will release an interim change to the MFTURP No. 1 on March 29, 2010. The interim change updates Section A, Paragraph N, Fuel Surcharge, in accordance with Section 884 of the National Defense Authorization Act.

ADDRESSES: Submit comments to Publication and Rules Manager, Strategic Business Directorate, Business Services, 661 Sheppard Place, ATTN: SDDC-OPM, Fort Eustis, VA 23604-1644. Request for additional information may be sent by email to: chad.t.privett@us.army.mil or george.alie@us.army.mil.

FOR FURTHER INFORMATION CONTACT: Mr. Chad Privett, (757) 878-8161.

SUPPLEMENTARY INFORMATION:

References: Military Freight Traffic Unified Rules Publications (MFTURP) No. 1; Section 884 of the National Defense Authorization Act.

Background: Section 884 of the National Defense Authorization Act requires DoD to ensure that any fuel-related adjustment in a carriage contract is passed through to the entity bearing the cost of the fuel corresponding to that adjustment. Updating the MFTURP No. 1 ensures DoD can meet the requirements of Section 884.

Miscellaneous: The MFTURP No. 1, as well as the other SDDC publications, can be accessed via the SDDC Web site at: http://www.sddc.army.mil/Public/Global%20Cargo%20Distribution/Domestic/Publications/.

C.E. Radford, III,
Division Chief, G9, Strategic Business Directorate.

[FR Doc. 2010-6882 Filed 3-26-10; 8:45 am]

BILLING CODE 3710-08-P